DEPARTMENT OF COMMERCE

International Trade Administration

[A-570-890]

Wooden Bedroom Furniture From the People's Republic of China: Preliminary Results of Antidumping Duty New Shipper Reviews

AGENCY: Import Administration, International Trade Administration, Department of Commerce.

DATES: Effective Date: November 26, 2010.

SUMMARY: On March 1, 2010, the Department of Commerce (the “Department”) initiated three new shipper reviews of the antidumping duty order on wooden bedroom furniture from the People's Republic of China (“PRC”) covering sales of subject merchandise made by Dongguan Huansheng Furniture Co., Ltd. (“Huansheng”); Hangzhou Cadman Trading Co., Ltd. (“Cadman”); and Wanvog Furniture (Kunshan) Co., Ltd. (“Wanvog”) (collectively “respondents”).¹

¹ See Wooden Bedroom Furniture from the People's Republic of China: Initiation of Antidumping Duty New Shipper Reviews, 75 FR 10214 (March 5, 2010) (“Initiation Notice”).

The Department preliminarily determines that Huansheng and Cadman have not made sales at less than normal value (“NV”). The Department also preliminarily determines that Wanvog made sales in the United States at prices below NV. If these preliminary results are adopted in our final results of review, the Department will instruct U.S. Customs and Border Protection (“CBP”) to assess antidumping duties on entries of subject merchandise during the period January 1, 2009 through December 31, 2009 (the period of review or “POR”), for which the importer-specific assessment rates are above de minimis.

FOR FURTHER INFORMATION CONTACT: Jeff Pedersen or Rebecca Pandolph, AD/CVD Operations, Office 4, Import Administration, International Trade Administration, U.S. Department of Commerce, 14th Street and Constitution Avenue, NW., Washington, DC 20230; telephone: (202) 482-2769 or (202) 482-3627, respectively.

SUPPLEMENTARY INFORMATION:

The antidumping duty order on wooden bedroom furniture from the PRC was published on January 4, 2005.² On January 21, 2010, the Department received a timely request for a new shipper review from Huansheng. On January 29, 2010, the Department received timely requests for new shipper reviews from Wanvog and Cadman. On March 1, 2010, the Department initiated new shipper reviews of Huansheng, Wanvog, and Cadman. See Initiation Notice.

² See Notice of Amended Final Determination of Sales at Less Than Fair Value and Antidumping Duty Order: Wooden Bedroom Furniture From the People's Republic of China, 70 FR 329 (January 4, 2005).

On March 2, 2010, the Department issued an antidumping duty questionnaire to Huansheng, Wanvog, and Cadman. From March 2010 through September 2010, the Department received timely questionnaire and supplemental questionnaire responses from Huansheng, Wanvog, and Cadman.

On April 26, 2010, the Office of Policy issued a memorandum identifying six countries as being at a level of economic development comparable to the PRC for the instant POR. The countries identified in that memorandum are India, the Philippines, Indonesia, Thailand, Ukraine, and Peru.³ On April 27, 2010, the Department released the Policy Memorandum to interested parties and provided parties with an opportunity to submit comments regarding the selection of a surrogate country in the instant review.⁴ On May 18, 2010, the American Furniture Manufacturers Committee for Legal Trade and Vaughan-Bassett Furniture Company, Inc. (collectively, Petitioners) provided comments on surrogate country selection.⁵ On June 15, 2010, Petitioners, Wanvog, and Huansheng provided publicly-available information to value factors of production (“FOP”).⁶ On June 21, 2010, Cadman provided publicly-available data to value its FOP.⁷ On July 29, 2010, the Department received entry documents from CBP, which supported all three respondents' contentions that they had not made a sale of subject merchandise prior to the POR for these new shipper reviews. See Memorandum to the File from the Team through Howard Smith, Program Manager, Office 4, regarding “New Shipper Reviews of Wooden Bedroom Furniture from the People's Republic of China: U.S. Entry Documents,” dated July 29, 2010.

³ See Memorandum entitled, “Request for a List of Surrogate Countries for New Shipper Review of the Antidumping Duty Order on Wooden Bedroom Furniture (“Furniture”) from the People's Republic of China (“PRC”),” dated April 26, 2010 (“Policy Memorandum”).

⁴ See Letter from Howard Smith, Program Manager, Office 4, to All Interested Parties, requesting comments from interested parties regarding the selection of a surrogate country, dated April 27, 2010.

⁵ See Letter from Petitioners regarding, “Wooden Bedroom Furniture From the People's Republic of China: Surrogate Country Comments,” dated May 18, 2010 (“Petitioners' Surrogate Country Comments”).

⁶ See Letter from Petitioners regarding, “Wooden Bedroom Furniture From the People's Republic of China: Submission of Publicly Available Information to Value the Factors of Production,” dated June 15, 2010 (“Petitioners' Surrogate Value Submission”); see Letter from Wanvog regarding, “Wooden Bedroom Furniture from the People's Republic of China: Submission of Publicly Available Surrogate Values for the Factors of Production of Wanvog Furniture (Kunshan) Co., Ltd.,” dated June 15, 2010 (“Wanvog's Surrogate Value Submission”); see also Letter from Dongguan Huansheng regarding, “Wooden Bedroom Furniture from People's Republic of China—Dongguan Huansheng Surrogate Values for Preliminary Determination,” dated June 15, 2010 (“Dongguan Huansheng's Surrogate Value Submission”).

⁷ See Letter from Hangzhou Cadman regarding, “Wooden Bedroom Furniture From the People's Republic of China: Hangzhou Cadman Surrogate Value Submission,” dated June 21, 2010 (“Cadman's Surrogate Value Submission”).

Period of Review

The POR is January 1, 2009 through December 31, 2009.

Scope of the Order

The product covered by the order is wooden bedroom furniture which is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,⁸ highboys,⁹ lowboys,¹⁰ chests of drawers,¹¹ chests,¹² door chests,¹³ chiffoniers,¹⁴ hutches,¹⁵ and armoires; ¹⁶ (6) desks, computer stands, filing cabinets, book cases, or writing tables that are attached to or incorporated in the subject merchandise; and (7) other bedroom furniture consistent with the above list.

⁸ A chest-on-chest is typically a tall chest-of-drawers in two or more sections (or appearing to be in two or more sections), with one or two sections mounted (or appearing to be mounted) on a slightly larger chest; also known as a tallboy.

⁹ A highboy is typically a tall chest of drawers usually composed of a base and a top section with drawers, and supported on four legs or a small chest (often 15 inches or more in height).

¹⁰ A lowboy is typically a short chest of drawers, not more than four feet high, normally set on short legs.

¹¹ A chest of drawers is typically a case containing drawers for storing clothing.

¹² A chest is typically a case piece taller than it is wide featuring a series of drawers and with or without one or more doors for storing clothing. The piece can either include drawers or be designed as a large box incorporating a lid.

¹³ A door chest is typically a chest with hinged doors to store clothing, whether or not containing drawers. The piece may also include shelves for televisions and other entertainment electronics.

¹⁴ A chiffonier is typically a tall and narrow chest of drawers normally used for storing undergarments and lingerie, often with mirror(s) attached.

¹⁵ A hutch is typically an open case of furniture with shelves that typically sits on another piece of furniture and provides storage for clothes.

¹⁶ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹⁷ (9) jewelry armoires; ¹⁸ (10) cheval mirrors; ¹⁹ (11) certain metal parts; ²⁰ (12) mirrors that do not attach to, incorporate in, sit on, or hang over a dresser if they are not designed and marketed to be sold in conjunction with a dresser as part of a dresser-mirror set; (13) upholstered beds ²¹ and (14) toy boxes.²²

¹⁷ As used herein, bentwood means solid wood made pliable. Bentwood is wood that is brought to a curved shape by bending it while made pliable with moist heat or other agency and then set by cooling or drying. See Customs' Headquarters' Ruling Letter 043859, dated May 17, 1976.

¹⁸ Any armoire, cabinet or other accent item for the purpose of storing jewelry, not to exceed 24 in width, 18 in depth, and 49 in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture from the People's Republic of China, dated August 31, 2004. See also Wooden Bedroom Furniture from the People's Republic of China: Final Changed Circumstances Review, and Determination To Revoke Order in Part, 71 FR 38621 (July 7, 2006).

¹⁹ Cheval mirrors are any framed, tiltable mirror with a height in excess of 50 that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

²⁰ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (“HTSUS”) subheading 9403.90.7000.

²¹ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

²² To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum, “Wooden Bedroom Furniture from the People's Republic of China: Scope Ruling on a White Toy Box,” dated July 6, 2009, the dimensional ranges used to identify the toy boxes that are excluded from the wooden bedroom furniture order apply to the box itself rather than the lid.

Imports of subject merchandise are classified under subheading 9403.50.9040 of the HTSUS as “wooden * * * beds” and under subheading 9403.50.9080 of the HTSUS as “other * * * wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors * * * framed.” The order covers all wooden bedroom furniture meeting the above description, regardless of tariff classification. Although the HTSUS subheadings are provided for convenience and customs purposes, our written description of the scope of this proceeding is dispositive.

Bona Fide Sales Analysis

Consistent with the Department's practice, the Department investigated the bona fide nature of the sales made by Huansheng, Wanvog, and Cadman for this review. In evaluating whether or not a single sale in a new shipper review is commercially reasonable, and therefore bona fide, the Department considers, inter alia, such factors as: (1) The timing of the sale; (2) the price and quantity; (3) the expenses arising from the transaction; (4) whether the goods were resold at a profit; and (5) whether the transaction was made on an arm's-length basis. See, e.g., Tianjin Tiancheng Pharmaceutical Co., Ltd. v. United States, 366 F. Supp. 2d 1246, 1250 (CIT 2005). Accordingly, the Department considers a number of factors in its bona fide analysis, “all of which may speak to the commercial realities surrounding an alleged sale of subject merchandise.” See Hebei New Donghua Amino Acid Co., Ltd. v. United States, 374 F. Supp. 2d 1333, 1342 (CIT 2005) (citing Fresh Garlic From the People's Republic of China: Final Results of Antidumping Administrative Review and Rescission of New Shipper Review, 67 FR 11283 (March 13, 2002)).

The Department preliminarily finds that the sales of subject merchandise made by Huansheng, Wanvog, and Cadman were made on a bona fide basis. Specifically, the Department preliminarily finds that: (1) The timing of the sales by themselves do not indicate that the sales might not be bona fide; (2) the price and quantity of the sales were within the range of the prices and quantities of other entries of subject merchandise from the PRC into the United States; (3) Huansheng, Wanvog, and Cadman and their customer(s) did not incur any extraordinary expenses arising from the transaction; (4) the new shipper sales were made between unaffiliated parties at arm's length; and (5) the merchandise was resold at a profit.²³ Therefore, the Department has preliminarily found that Huansheng, Wanvog, and Cadmans' sales of subject merchandise to the United States were bona fide for purposes of these new shipper reviews.

²³ See Memorandum to Abdelali Elouaradia, Director, AD/CVD Operations, Office 4, regarding, “Antidumping Duty New Shipper Review of Wooden Bedroom Furniture from the People's Republic of China: Bona Fide Sales Analysis for Dongguan Huansheng Furniture Co., Ltd.,” dated concurrently with the preliminary results; Memorandum to Abdelali Elouaradia, Director, AD/CVD Operations, Office 4, regarding, “Antidumping Duty New Shipper Review of Wooden Bedroom Furniture from the People's Republic of China: Bona Fide Sales Analysis for Hangzhou Cadman Trading Co., Ltd.,” dated concurrently with the preliminary results; and Memorandum to Abdelali Elouaradia, Director, AD/CVD Operations, Office 4, regarding, “Antidumping Duty New Shipper Review of Wooden Bedroom Furniture from the People's Republic of China: Bona Fide Sales Analysis for Wanvog Furniture (Kunshan) Co., Ltd.,” dated concurrently with the preliminary results.

Non-Market Economy Country Status

In every antidumping case conducted by the Department involving the PRC, the PRC has been treated as a non-market economy (“NME”) country.²⁴ In accordance with section 771(18)(C)(i) of the Tariff Act of 1930, as amended (“the Act”), any determination that a foreign country is an NME country shall remain in effect until revoked by the administering authority. None of the parties to this proceeding has contested such treatment. Accordingly, the Department calculated NV in accordance with section 773(c) of the Act, which applies to NME countries.

²⁴ See, e.g., Tapered Roller Bearings and Parts Thereof, Finished and Unfinished, From the People's Republic of China: Preliminary Results of 2001-2002 Administrative Review and Partial Rescission of Review, 68 FR 7500 (February 14, 2003) (unchanged in the final results, Tapered Rolling Bearings and Parts Thereof, Finished and Unfinished, from the People's Republic of China: Final Results of 2001-2002 Administrative Review and Partial Rescission of Review, 68 FR 70488 (December 18, 2003)).

Separate Rates

In proceedings involving NME countries, the Department has a rebuttable presumption that all companies within the country are subject to government control and thus should be assessed a single antidumping duty rate. It is the Department's policy to assign all exporters of subject merchandise in an NME country this single rate unless an exporter can demonstrate that it is sufficiently independent so as to be entitled to a separate rate. Exporters can demonstrate this independence through the absence of both de jure and de facto government control over export activities. The Department analyzes each entity exporting the subject merchandise under a test arising from the Final Determination of Sales at Less Than Fair Value: Sparklers From the People's Republic of China, 56 FR 20588 (May 6, 1991) (Sparklers), as further developed in Notice of Final Determination of Sales at Less Than Fair Value: Silicon Carbide From the People's Republic of China, 59 FR 22585, 22586-7 (May 2, 1994) (Silicon Carbide). However, if the Department determines that a company is wholly foreign-owned or located in a market economy, then a separate rate analysis is not necessary to determine whether it is independent from government control. See Notice of Final Determination of Sales at Less Than Fair Value: Creatine Monohydrate From the People's Republic of China, 64 FR 71104, 71104-05 (December 20, 1999) (where the respondent was wholly foreign-owned and, thus, qualified for a separate rate).

Separate Rate Recipients

1. Wholly Foreign-Owned

Wanvog provided evidence that during the POR it was a wholly foreign-owned company.²⁵ Therefore, consistent with the Department's practice, further analysis is not necessary to determine whether Wanvog's export activities are independent from government control, and we have preliminarily granted a separate rate to Wanvog.

2. Wholly Chinese-Owned Companies

²⁵ See letter from Wanvog regarding, “Wooden Bedroom Furniture from the People's Republic of China: Section A Questionnaire Response of Wanvog Furniture (Kunshan) Co., Ltd.,” dated March 30, 2010 at A-2-A-12 and Exhibits A-3 and A-4.

Cadman and Huansheng are wholly Chinese-owned companies and are located in the PRC. Therefore, the Department has analyzed whether they have demonstrated the absence of both de jure and de facto government control over their export activities.

A. Absence of De Jure Control

The Department considers the following de jure criteria in determining whether an individual company may be granted a separate rate: (1) An absence of restrictive stipulations associated with an individual exporter's business and export licenses; (2) legislative enactments decentralizing control of companies; and (3) other formal measures by the government decentralizing control of companies. See Sparklers, 56 FR at 20589.

The evidence provided by Cadman and Huansheng supports a preliminary finding of de jure absence of government control based on the following: (1) An absence of restrictive stipulations associated with Cadman's and Huansheng's business and export licenses; ²⁶ (2) applicable legislative enactments decentralizing control over PRC companies; ²⁷ and (3) formal measures by the government decentralizing control of PRC companies.²⁸

²⁶ See letter from Cadman regarding, “Wooden Bedroom Furniture from the People's Republic of China; Section A Questionnaire Response of Hangzhou Cadman Trading Co., Ltd.,” dated March 31, 2010 (“Cadman's Section A response”) at Exhibit 3; see also letter from Dongguan Huansheng regarding, “Wooden Bedroom Furniture from People's Republic of China—Section A Response,” dated March 23, 2010 (“Dongguan Huansheng's Section A response”) at Exhibit A-2.

²⁷ See Cadman's Section A response at Exhibit 2; Dongguan Huansheng's section A response at Exhibit A-1.

²⁸ See id.

B. Absence of De Facto Control

The Department considers four factors in evaluating whether each respondent is subject to de facto government control of its export functions: (1) Whether the export prices are set by or are subject to the approval of a government agency; (2) whether the respondent has authority to negotiate and sign contracts and other agreements; (3) whether the respondent has autonomy from the government in making decisions regarding the selection of management; and (4) whether the respondent retains the proceeds of its export sales and makes independent decisions regarding disposition of profits or financing of losses. See Silicon Carbide, 59 FR at 22586-87; see also Notice of Final Determination of Sales at Less Than Fair Value: Furfuryl Alcohol From the People's Republic of China, 60 FR 22544, 22545 (May 8, 1995). The Department has determined that an analysis of de facto control is critical in determining whether respondents are subject to a degree of government control which would preclude the Department from assigning separate rates.

The evidence provided by Cadman and Huansheng supports a preliminary finding of de facto absence of government control over their export activities based on the following: (1) Cadman and Huansheng set their own export prices independent of the government and without the approval of a government authority; (2) Cadman and Huanshengs' general managers have the authority to negotiate and bind the company in an agreement; (3) Cadman and Huansheng maintain autonomy from the government in making decisions regarding the selection of management; and (4) Cadman and Huansheng retain the proceeds of their export sales and make independent decisions regarding disposition of profits or financing of losses.²⁹

²⁹ See Cadman's Section A response at A3-A17 and exhibits 4 and 13; see also Dongguan Huansheng's Section A response at A2-A11 and exhibits A-3, A-4, and A-6.

The evidence placed on the record by Cadman and Huansheng demonstrates an absence of de jure and de facto government control, in accordance with the criteria identified in Sparklers and Silicon Carbide. Accordingly, the Department has preliminarily granted separate rates to Cadman and Huansheng.

Surrogate Country

When the Department conducts an antidumping duty new shipper review of imports from an NME country, section 773(c)(1) of the Act directs the Department to base NV, in most circumstances, on the NME producer's FOP valued in a surrogate market-economy country or countries considered appropriate by the Department. In accordance with section 773(c)(4) of the Act, the Department will value FOP using “to the extent possible, the prices or costs of factors of production in one or more market economy countries that are—(A) at a level of economic development comparable to that of the NME country, and (B) significant producers of comparable merchandise.” Further, pursuant to 19 CFR 351.408(c)(2), the Department will normally value all FOP in a single country, except for labor.

In the instant review, the Department identified India, the Philippines, Indonesia, Thailand, Ukraine, and Peru as being at a level of economic development comparable to the PRC.³⁰ Petitioners provided comments on the selection of a surrogate country by providing a submission from the fourth administrative review which contains an October 2007 report published by the international research firm CSIL Milano that demonstrates the significance of Philippine production of wooden furniture.³¹ No other parties commented on the selection of a surrogate country. In addition, Petitioners and the three respondents submitted publicly-available Philippine data for valuing FOP.³²

³⁰ See Policy Memorandum. The Department notes that these six countries are part of a non-exhaustive list of countries that are at a level of economic development comparable to the PRC.

³¹ See Petitioners' May 18, 2010 submission at attachment.

³² See Petitioners' June 15, 2010 submission; see Hangzhou Cadman's June 21, 2010 submission; see Dongguan Huansheng's June 15, 2010 submission; see also Wanvog's June 15, 2010 submission.

Based on the information on the record, we find that the Philippines is a significant producer of comparable merchandise. Specifically, The Furniture Industry in the Philippines report indicates that in 2006, Philippine manufacturers produced furniture valued at $813 million and the Philippines exported furniture valued at $279 million.³³ The State of the Sector Report on Philippine Furniture 2006 indicates that wooden furniture has replaced rattan as the most commonly used material and accounted for 51 percent of all Philippine furniture exports.³⁴ In addition, both The Furniture Industry in the Philippines and State of the Sector Report on Philippine Furniture 2006 describes the furniture sector as comprised of approximately 15,000 manufacturers and 800,000 workers.³⁵ Thus, record evidence shows that the Philippines is a significant producer of merchandise that is comparable to the merchandise under review.

³³ See Petitioners' May 18, 2010 submission at attachment entitled, “2009 New Shipper Review of the Antidumping Duty Order on Wooden Bedroom Furniture from the People's Republic of China,” dated January 15, 2010.

³⁴ See id.

³⁵ See id.

With respect to data considerations in selecting a surrogate country, both Petitioners and the three respondents have submitted publicly-available Philippine data for valuing FOP. In addition, the Department used the Philippines as the primary surrogate country in the second, third, and fourth administrative reviews of this proceeding.³⁶ Therefore, based on its experience, the Department finds that the Philippines has, in the past, provided reliable, publicly-available data for valuing the FOP. However, for the input “natural gas,” the Department has been unable to locate a suitable surrogate value from the Philippines. Therefore, we preliminarily determine to use India as a secondary surrogate country because the record shows that India is at a level of economic development comparable to that of the PRC ³⁷ and is a significant producer of merchandise comparable to subject merchandise.³⁸ Moreover, India has publicly available, country-wide data that clearly identifies the relevant time period and prices for valuing gas.³⁹

³⁶ See Wooden Bedroom Furniture from the People's Republic of China: Preliminary Results of Antidumping Duty Administrative Review, Preliminary Results of New Shipper Review and Partial Rescission of Administrative Review, 73 FR 8273, 8277-78 (February 13, 2008) (unchanged in Wooden Bedroom Furniture from the People's Republic of China: Final Results of Antidumping Duty Administrative Review and New Shipper Review, 73 FR 49162 (August 20, 2008)); see Wooden Bedroom Furniture from the People's Republic of China: Preliminary Results of Antidumping Duty Administrative and New Shipper Reviews and Partial Rescission of Review, 74 FR 6372, 6376 (February 9, 2009) (unchanged in Wooden Bedroom Furniture from the People's Republic of China: Final Results of Antidumping Duty Administrative Review and New Shipper Reviews, 74 FR 41374 (August 17, 2009)); see also Wooden Bedroom Furniture from the People's Republic of China: Preliminary Results of Antidumping Duty Administrative Review and Intent To Rescind Review in Part, 75 FR 5952 (February 5, 2010) (unchanged in Wooden Bedroom Furniture from the People's Republic of China: Final Results and Final Rescission in Part, 75 FR 50992 (August 18, 2010)).

³⁷ See Policy Memorandum.

³⁸ Memorandum to the File entitled, “2009 New Shipper Reviews of Wooden Bedroom Furniture from the People's Republic of China: Surrogate Value Memorandum for the Preliminary Results,” dated concurrently with the preliminary results (“Surrogate Value Memorandum”).

³⁹ See “Factor Valuations” below for further details.

Thus, the Department has preliminarily selected the Philippines as the primary surrogate country because the record shows that the Philippines is at a level of economic development comparable to that of the PRC and is a significant producer of merchandise comparable to subject merchandise. Moreover, the record indicates that sufficient, contemporaneous, public Philippine data are readily-available.⁴⁰ Accordingly, we have selected the Philippines as the surrogate country and, accordingly, have calculated NV using Philippine prices to value Cadman's, Huansheng's and Wanvog's FOP.⁴¹ In accordance with 19 CFR 351.301(c)(3)(ii), interested parties may submit publicly-available information to value the FOP until 20 days after the date of publication of the preliminary results.⁴²

⁴⁰ See Petitioners' Surrogate Value Submission, Wanvog's Surrogate Value Submission, Dongguan Huansheng's Surrogate Value Submission, and Cadman's Surrogate Value Submission.

⁴¹ See Surrogate Value Memorandum.

⁴² In accordance with 19 CFR 351.301(c)(1), for the final results of this new shipper review, interested parties may submit factual information to rebut, clarify, or correct factual information submitted by an interested party less than ten days before, on, or after, the applicable deadline for submission of such factual information. However, the Department notes that 19 CFR 351.301(c)(1) permits new information only insofar as it rebuts, clarifies, or corrects information placed on the record. The Department generally will not accept the submission of additional, previously absent-from-the-record alternative surrogate value information pursuant to 19 CFR 351.301(c)(1). See Glycine from the People's Republic of China: Final Results of Antidumping Duty Administrative Review and Final Rescission, in Part, 72 FR 58809 (October 17, 2007) and accompanying Issues and Decision Memorandum at Comment 2.

Fair Value Comparisons

In accordance with section 777(A)(d) of the Act, to determine whether Cadman, Huansheng and Wanvog sold wooden bedroom furniture to the United States at less than NV, the Department compared the export price (“EP”) and constructed export price (“CEP”) of U.S. sales to NV, as described in the “U.S. Price” and “Normal Value” sections of this notice.

U.S. Price

In accordance with section 772(a) of the Act, the Department used EP as the basis for U.S. price for Huansheng's and Cadman's sales where the first sale to unaffiliated purchasers was made prior to importation and the use of CEP was not otherwise warranted. In accordance with section 772(c) of the Act, the Department calculated EP for Huansheng and Cadman by deducting the following expenses, where applicable, from the starting price (gross unit price) charged to the first unaffiliated customer in the United States: foreign inland freight from the plant to the port of exportation, and foreign brokerage and handling. Additionally, the Department based movement expenses on surrogate values where the service was purchased from a PRC company. For details regarding our EP calculations, see the Huansheng analysis memorandum entitled, “Wooden Bedroom Furniture from the People's Republic of China: Preliminary Results Analysis Memorandum for Dongguan Huansheng Furniture Co., Ltd.,” (“Huansheng Analysis Memorandum”), dated concurrently with the preliminary results, the Cadman analysis memorandum entitled, “Wooden Bedroom Furniture from the People's Republic of China: Preliminary Results Analysis Memorandum for Hangzhou Cadman Trading Co., Ltd.,” (“Cadman Analysis Memorandum”), dated concurrently with the preliminary results and the Surrogate Value Memorandum.

In accordance with section 772(b) of the Act, the Department used CEP as the basis for U.S. price for Wanvog's sales where Wanvog first sold subject merchandise to its affiliated company in the United States, which in turn sold subject merchandise to unaffiliated U.S. customers. In accordance with section 772(b) of the Act, CEP is the price at which the merchandise under investigation is first sold (or agreed to be sold) in the United States before or after the date of importation by or for the account of the producer or exporter of such merchandise or by a seller affiliated with the producer or exporter, to a purchaser not affiliated with the producer or exporter, as adjusted under sections 772(c) and (d) of the Act. The Department calculated CEP for Wanvog based on delivered prices to unaffiliated purchasers in the United States and made deductions, where applicable, from the U.S. sales price for movement expenses in accordance with section 772(c)(2)(A) of the Act. These movement expenses included foreign inland freight from the plant to the port of exportation, brokerage and handling, international freight, marine insurance, and U.S. customs duty. In accordance with section 772(d)(1) of the Act, the Department deducted credit expenses and indirect selling expenses from the U.S. price, all of which relate to commercial activity in the United States. Finally, the Department deducted CEP profit, in accordance with sections 772(d)(3) and 772(f) of the Act. For details regarding the CEP calculation, see the Wanvog analysis memorandum entitled, “Wooden Bedroom Furniture from the People's Republic of China: Preliminary Results Analysis Memorandum for Wanvog Furniture (Kunshan) Co., Ltd.,” (“Wanvog Analysis Memorandum”), dated concurrently with these preliminary results.

Normal Value

Section 773(c)(1) of the Act provides that the Department shall determine the NV using an FOP methodology if: (1) The merchandise is exported from an NME country; and (2) the information does not permit the calculation of NV using home-market prices, third-country prices, or constructed value under section 773(e) of the Act. When determining NV in an NME context, the Department will base NV on FOP, because the presence of government controls on various aspects of these economies renders price comparisons and the calculation of production costs invalid under our normal methodologies. Under section 773(c)(3) of the Act, FOP include, but are not limited to: (1) Hours of labor required; (2) quantities of raw materials employed; (3) amounts of energy and other utilities consumed; and (4) representative capital costs. The Department based NV on FOP reported by Huansheng, Wanvog, and Cadman for materials, energy, labor and packing.

In accordance with 19 CFR 351.408(c)(1), the Department will normally use publicly-available surrogates to value FOP, but when a producer sources an input from a market economy and pays for it in market economy currency, the Department will normally value the factor using the actual price paid for the input. However, when the Department has reason to believe or suspect that such prices may be distorted by subsidies, the Department will disregard the market economy purchase prices and use surrogate values to determine the NV.⁴³ Where the facts developed in either U.S. or third-country countervailing duty findings include the existence of subsidies that appear to be used generally (in particular, broadly available, non-industry specific export subsidies), the Department will have reason to believe or suspect that prices of the inputs from the country granting the subsidies may be subsidized.⁴⁴

⁴³ See Tapered Roller Bearings and Parts Thereof, Finished and Unfinished, From the People's Republic of China; Final Results of 1998-1999 Administrative Review, Partial Rescission of Review, and Determination Not To Revoke Order in Part, 66 FR 1953 (January 10, 2001) (“TRBs 1998-1999”), and accompanying Issues and Decision Memorandum at Comment 1.

⁴⁴ See TRBs 1998-1999 at Comment 1; see also China Nat'l. Machinery Imp. & Exp. Corp. v. United States, 293 F. Supp. 2d 1334, 1338-39 (Ct. Int'l Trade 2003).

In avoiding the use of prices that may be subsidized, the Department does not conduct a formal investigation to ensure that such prices are not subsidized, but rather relies on information that is generally available at the time of its determination.⁴⁵

⁴⁵ See H.R. Rep. 100-576, at 590 (1988), reprinted in 1988 U.S.C.C.A.N. 1547, 1623-24.

Factor Valuations

In accordance with section 773(c) of the Act, we calculated NV based on FOP reported by Huansheng, Wanvog, and Cadman for the POR. To calculate NV, the Department multiplied the reported per-unit factor quantities by publicly-available Philippine and Indian surrogate values. In selecting the surrogate values, the Department considered the quality, specificity, and contemporaneity of the data. As appropriate, the Department adjusted input prices by including freight costs to make them delivered prices. Specifically, the Department added to Philippine import surrogate values a surrogate freight cost using the shorter of the reported distance from the domestic supplier to the respondent's factory or the distance from the nearest seaport to the respondent's factory where appropriate (i.e., where the sales terms for the market-economy imports were not delivered to the factory). This adjustment is in accordance with the decision of the Federal Circuit in Sigma Corp. v. United States, 117 F.3d 1401, 1407-08 (Fed. Cir. 1997).

Where market-economy purchases of inputs were not made in significant quantities, we used import values for the POR from the Philippines National Statistics Office (“Philippines NSO”) reported in U.S. dollars on a cost, insurance, and freight (“CIF”) basis to value the following inputs: Woods (e.g., pine, particleboard, etc.), adhesives and finishing materials (e.g., glue, paints, sealer, lacquer, etc.), hardware (e.g., nails, staples, screws, bolts, knobs, pulls, drawer slides, hinges, clasps, etc.), other materials (e.g., mirrors, glass, leather, cloth, sponge, etc.), and packing materials (e.g., cardboard, cartons, plastic film, labels, tape, etc.). The Philippines NSO is the only data source on the record that provides data on a net weight basis, which is the same basis as reported by Huansheng, Wanvog, and Cadman in reporting FOP. For a detailed description of all surrogate values used to value the reported FOP, see Surrogate Value Memorandum.

Where we could not obtain publicly-available information contemporaneous with the POR with which to value FOP, we inflated (or deflated) the surrogate values using the Philippine Wholesale Price Index or the Indian Wholesale Price Index as published in the International Financial Statistics of the International Monetary Fund.

On May 14, 2010, the Court of Appeals for the Federal Circuit (“CAFC”) in Dorbest Ltd. v. United States, 604 F.3d 1363, 1372 (CAFC 2010) (“Dorbest IV”), found that the “{regression-based} method for calculating wage rates {as stipulated by 19 CFR 351.408(c)(3)} uses data not permitted by {the statutory requirements laid out in section 773 of the Act (i.e., 19 U.S.C. 1677b(c))}.” The Department is continuing to evaluate options for determining labor values in light of the recent CAFC decision.

For the preliminary results of these new shipper reviews, the Department is valuing labor using a simple average industry-specific wage rate using earnings or wage data reported under Chapter 5B by the International Labor Organization (“ILO”). To achieve an industry-specific labor value, we relied on industry-specific labor data from the countries we determined to be both economically comparable to the PRC and significant producers of comparable merchandise. A full description of the industry-specific wage rate calculation methodology is provided in the Surrogate Value Memorandum. The Department calculated a simple average industry-specific wage rate of $1.20 for these preliminary results. Specifically, for this review, the Department has calculated the wage rate using a simple average of the data provided to the ILO under Sub-Classification 36 of the ISIC-Revision 3 standard by countries determined to be both economically comparable to the PRC and significant producers of comparable merchandise. The Department finds the two-digit description under International Standard Industrial Classification—Revision 3 (“Manufacture of furniture; manufacturing n.e.c.”) to be the best available wage rate surrogate value on the record because it is specific and derived from industries that produce merchandise comparable to the subject merchandise. Consequently, we averaged the ILO industry-specific wage rate data or earnings data available from the following countries found to be economically comparable to the PRC and significant producers of comparable merchandise: Ecuador, Egypt, Indonesia, Jordan, Peru, the Philippines, Thailand, and Ukraine. For further information on the calculation of the wage rate, see Surrogate Value Memorandum.

We valued electricity using contemporaneous Philippine data from The Cost of Doing Business in Camarines Sur, which is available at the Philippine government's Web site for the province: http://www.camarinessur.gov.ph. These data pertain only to industrial consumption. See Surrogate Value Memorandum.

We valued natural gas using April through June 2002 data from the Gas Authority of India Ltd. (“GAIL”). To be contemporaneous with the POR, the Department inflated this factor value using the POR-average wholesale price index for India.

We calculated the value of domestic brokerage and handling using World Bank's Doing Business in the Philippines report.

We calculated the surrogate value for truck freight using Philippine data from The Cost of Doing Business in Camarines Sur, which we have printed from the Philippine government's Web site for the province http://www.camarinessur.gov.ph) and placed upon the record with the Surrogate Value Memorandum.

We valued factory overhead, selling, general, and administrative (“SG&A”) expenses, and profit, using the audited financial statements for the fiscal year ending December 31, 2008, from the following producers: APY Cane International; Arkane International Corporation; Berbenwood Industries Inc.; Clear Export Industries, Inc.; Diretso Design Furnitures, Inc.; Heritage Muebles Mirabile Export Inc.; Horizon International Manufacturing, Inc.; Insular Rattan and Native Products Corp.; Interior Crafts Of The Islands, Inc.; Las Palmas Furniture, Inc.; and Wicker & Vine, Inc., which are Philippine producers of merchandise identical to subject merchandise that received no countervailable subsidies and that earned a before-tax profit in 2008. From this information, we were able to determine factory overhead costs as a percentage of the total raw materials, labor and energy (“ML&E”) costs; SG&A expenses as a percentage of ML&E plus overhead costs (i.e., cost of manufacture); and the profit rate as a percentage of the cost of manufacture plus SG&A expenses. For further discussion, see Surrogate Value Memorandum.

Currency Conversion

We made currency conversions into U.S. dollars, in accordance with section 773A(a) of the Act, based on the exchange rates in effect on the dates of the U.S. sales as certified by the Federal Reserve Bank.

Preliminary Results of Review

The Department preliminarily determines that the following weighted-average dumping margins exist for the period January 1, 2009, through December 31, 2009:

Exporter/manufacturer | Weighted- average margin (percent)
Exported and Produced by Dongguan Huansheng Furniture Co., Ltd | 0
Exported and Produced by Wanvog Furniture (Kunshan) Co., Ltd | 2.69
Exported by Hangzhou Cadman Trading Co., Ltd. and Produced by Haining Changbei Furniture Co., Ltd | 0

Disclosure

The Department will disclose calculations performed for these preliminary results to the parties within five days of the date of publication of this notice in accordance with 19 CFR 351.224(b).

Public Comment

Interested parties may submit written comments no later than 30 days after the date of publication of these preliminary results of review. See 19 CFR 351.309(c). Rebuttals to written comments must be limited to the issues raised in the written comments and may be filed no later than five days after the deadline for filing case briefs. See 19 CFR 351.309(d). Further, parties submitting written comments and rebuttal comments are requested to provide the Department with an additional copy of those comments on a compact disk. Any interested party may request a hearing within 30 days of publication of these preliminary results. See 19 CFR 351.310(c). If requested, a hearing normally will be held two days after the scheduled date for submission of rebuttal comments. See 19 CFR 351.310(d). Parties should confirm by telephone the date, time, and location of the hearing two days before the scheduled date.

The Department will issue the final results of these new shipper reviews, which will include the results of its analysis of any issues raised in written comments, within 90 days of the date on which these preliminary results are issued, in accordance with 19 CFR 351.214(i)(1), unless the time limit is extended. See 19 CFR 351.214(i)(2).

Assessment Rates

Pursuant to 19 CFR 351.212(b), the Department will determine, and CBP shall assess, antidumping duties on all appropriate entries of subject merchandise in accordance with the final results of these reviews. For assessment purposes, the Department will calculate importer-specific (or customer) ad valorem duty assessment rates based on the ratio of the total amount of the dumping margins calculated for the examined sales to the total entered value of those same sales. The Department will instruct CBP to assess antidumping duties on all appropriate entries covered by these reviews if any importer-specific assessment rate calculated in the final results of these reviews is above de minimis. The Department intends to issue assessment instructions to CBP 15 days after the date of publication of the final results of these reviews.

Cash Deposit Requirements

The following cash deposit requirements will be effective upon publication of the final results of these new shipper reviews for shipments of subject merchandise from Huansheng, Wanvog, and Cadman entered, or withdrawn from warehouse, for consumption on or after the publication date, as provided by section 751(a)(2)(C) of the Act: (1) The cash deposit rate for the exporter/producer combinations listed in the table above will be the cash deposit rate established for that combination in the final results of these reviews; (2) for subject merchandise exported by Huansheng but not produced by Huansheng, exported by Wanvog but not produced by Wanvog, and exported by Cadman but not produced by Haining Changbei Furniture Co., Ltd. (“Haining Changbei”), the cash deposit rate will continue to be the PRC-wide rate of 216.01 percent; (3) for subject merchandise produced by Huansheng but not exported by Huansheng or produced by Wanvog but not exported by Wanvog, the cash deposit rate will be the rate applicable to the exporter; and (4) for subject merchandise produced by Haining Changbei but not exported by Cadman, the cash deposit rate will be the rate applicable to the exporter. If the cash deposit rate calculated in the final results of these reviews is zero or de minimis, for one of the exporter/producer combinations listed in the table above, no cash deposit will be required for entries of subject merchandise from that exporter/producer combination. These cash deposit requirements, when imposed, shall remain in effect until further notice.

Notification to Interested Parties

This notice serves as a reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

The Department is issuing and publishing this determination in accordance with sections 751(a)(2)(B) and 777(i) of the Act, and 19 CFR 351.214(h) and 351.221(b)(4).

Dated: November 16, 2010.
Ronald K. Lorentzen,
Deputy Assistant Secretary for Import Administration.

[FR Doc. 2010-29828 Filed 11-24-10; 8:45 am]

BILLING CODE 3510-DS-P